OFFICE OF MANAGEMENT AND BUDGET

Agency Information Collection Activities: Submission for the Office of Management and Budget (OMB) Review; Comments Requested

AGENCY: Office of Management and Budget (OMB).

ACTION: Notice of the OMB review of information collection and solicitation of public comment.

SUMMARY: The Office of Federal Financial Management, Office of Management and Budget (OMB) has recently submitted to OMB for review the following proposal for collection of information under the Paperwork Reduction Act of 1995 (44 U.S.C. Chapter 35).

DATES: Interested persons are invited to submit comments on or before September 2, 2003.

FOR FURTHER INFORMATION CONTACT: Written comments should be submitted to the Office of Information and Management Affairs, Attention: Lauren Wittenberg via fax at (202) 395-6974 or by e-mail at: Lauren_Wittenberg@omb.eop.gov.

SUPPLEMENTARY INFORMATION:

A. Background

In a Federal Register notice published April 8, 2003 [68 FR 17090], OMB proposed using as the standard set of data elements and definitions for applications as the existing Standard Form 424 (SF-424), Application for Federal Assistance, data elements and definitions and five additional data elements. After consultation with the public, OMB is adding four of the five proposed data elements to the SF-424 and intends to establish this data set as the standard for grant applications. The use of the standard data elements will be implemented through the electronic grants application process of Grants.gov for E-APPLY, which is scheduled for October 2003 deployment and is part of the implementation of the Federal Financial Assistance Management Improvement Act of 1999 (Pub. L. 106-107).

Based upon the 22 comments received, OMB has determined there is a need for further evaluation of the comments regarding several matters including the proposed assurance language, “Type of Applicant” information, and the budget section of the SF-424. Therefore, OMB is requesting the SF-424A, SF-424B, SF-424C and SF-424D be extended while these comments are being considered and addressed. OMB is requesting a revision to the SF-424 to add four data elements (DUNS number; e-mail address; facsimile number; and Applicant Type, Not-for-Profit). In addition, OMB recognizes that a transition period is needed to provide agencies time to adapt their applications to the revised SF-424 form and phase out the use of the old forms; OMB is seeking a transition period. Upon completion of the analysis of the comments and recommendations from the grants community, the SF-424 suite of forms will be revised accordingly. OMB will publish a new 60-day notice to solicit comments on the revised SF-424 suite of forms.

B. Comments and Responses

OMB received 22 comments on the proposed standard set of data elements and the proposed assurance statement. Comments were received from 11 Federal agencies, four non-profit organizations, two state governments, four universities and university-related organizations, and one individual. Overall the comments supported the establishment of application data standards and indicated there is still a need for more evaluation and consideration of the comments to ensure a well-defined SF-424 is available for use.

A number of comments received suggest further analysis is needed for clarification or the addition of more contact points to the forms. In addition, comments submitted by Federal agencies identified the need for additional “Type of Applicant” data and also suggested alignment to other Federal sources, e.g., Catalog of Federal Domestic Assistance (CFDA) and the Financial Assistance Award Data System (FAADS). OMB will evaluate these comments and conduct an analysis on “Type of Applicant” information. The analysis must be done in context with the process of applying for Federal assistance to ensure definitions and applicant data are consistent. The comments will be reviewed, addressed and submitted for public comment.

Some Federal comments focused on changing the budget format of the SF-424 based upon Federal program needs. Comments from the public sector recommended more consistency between financial accounting terms and development of budget for grant applications. The comments are significant enough that a separate evaluation needs to be done to determine if the budget categories and forms need to be adjusted to meet the needs of the grants community. The review shall determine what action or change, if any, may be made to the SF-424A and SF-424C. Any change would be reflected in a proposed notice requesting public comment.

The proposed consolidated assurance language included on the SF-424, as proposed in the April 8, 2003 Federal Register notice, raised several significant comments. These comments are being evaluated separately and will be addressed in a separate notice for public comment. The assurance language is currently found on the SF-424B and SF-424D and can be considered separately and will have no impact upon the implementation of the SF-424 for the October E-APPLY deployment. OMB is beginning the process of review of the assurance language at this time and will submit the proposed resolution for public comment.

Action to further evaluate the comments is being undertaken by OMB. It is the intention of OMB to continue to work with the public and Federal agencies to address the comments and to ensure the Federal government is developing standard data application packages that are simplified and streamlined in a manner intended by Pub. L. 106-107.

Sheila O. Conley,
Acting Deputy Controller.

[FR Doc. 03-19510 Filed 7-30-03; 8:45 am]

BILLING CODE 3110-01-P